ENVIRONMENTAL PROTECTION AGENCY

[FRL OP-OFA-035]

Environmental Impact Statements; Notice of Availability

Responsible Agency: Office of Federal Activities, General Information 202-564-5632 or https://www.epa.gov/nepa.

Weekly receipt of Environmental Impact Statements (EIS) Filed September 2, 2022 10 a.m. EST Through September 12, 2022 10 a.m. EST Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220134, Final, FERC, LA, Commonwealth LNG Project, Review Period Ends: 10/17/2022, Contact: Office of External Affairs 866-208-3372.

Amended Notice

EIS No. 20220114, Draft, STB, MO, Canadian Pacific Acquisition of Kansas City Southern, Comment Period Ends: 10/14/2022, Contact: Joshua Wayland 202-245-0330.

Revision to FR Notice Published 08/12/2022; Extending the Comment Period from 09/26/2022 to 10/14/2022.

Dated: September 12, 2022.
Cindy S. Barger,
Director, NEPA Compliance Division, Office of Federal Activities.

[FR Doc. 2022-20184 Filed 9-15-22; 8:45 am]

BILLING CODE 6560-50-P